DEPARTMENT OF COMMERCE

International Trade Administration

[A-570-918]

Steel Wire Garment Hangers From the People's Republic of China: Amended Final Determination of Sales at Less Than Fair Value

AGENCY: Import Administration, International Trade Administration, Department of Commerce.

EFFECTIVE DATE: September 15, 2008.

FOR FURTHER INFORMATION CONTACT: Julia Hancock, AD/CVD Operations, Office 9, Import Administration, International Trade Administration, U.S. Department of Commerce, 14th Street and Constitution Avenue, NW., Washington, DC 20230; telephone: (202) 482-1394.

Amendment to the Final Determination:

In accordance with sections 735(d) and 777(i)(1) of the Tariff Act of 1930, as amended, (“the Act”), on August 14, 2008, the Department of Commerce (“Department”) published the final determination of sales at less than fair value (“LTFV”) in the antidumping investigation of steel wire garment hangers from the People's Republic of China (“PRC”). See Steel Wire Garment Hangers from the People's Republic of China: Final Determination of Sales at Less Than Fair Value, 73 FR 47587 (August 14, 2008) (“Final Determination”).

On August 13, 2008, Petitioner ¹ and the Greenberg Traurig Respondents ² filed timely allegations that the Department made various ministerial errors in the Final Determination and requested, pursuant to 19 CFR 351.224, that the Department correct the alleged ministerial errors in the calculation of the margins for respondents. Additionally, on August 18, 2008, Shanghai Wells Hanger Co., Ltd. (“Shanghai Wells”) filed rebuttal comments with respect to the ministerial error allegations. No other parties in this proceeding submitted comments on the Department's final margin calculations.

¹ M&B Metal Products Company, Inc. (“Petitioner”).

² The Greenberg Traurig Respondents are: United Wire Hanger Corporation; Laidlaw Company; Zhejiang Lucky Cloud Hanger Co., Ltd.; Shangyu Baoxiang Metal Product Co., Ltd.; Shaoxing Dingli Metal Clotheshorse Co.; Shaoxing Liangbao Metal Products Co., Ltd.; Shaoxing Meideli Metal Products Co., Ltd.; Shaoxing Shunji Metal Clotheshorse Co., Ltd.; and Shaoxing Zhongbao Metal Manufactured Co., Ltd.

A ministerial error is defined as an error “in addition, subtraction, or other arithmetic function, clerical error resulting from inaccurate copying, duplication, or the like, and any other type of unintentional error which the {Department} considers ministerial.” See section 735(e) of the Act; see also 19 CFR 351.224(f).

After analyzing all interested party comments and rebuttals, we have determined, in accordance with section 735(e) of the Act and 19 CFR 351.224(e), that we made a ministerial error in our calculations for the final determination with respect to two mandatory respondents, Shanghai Wells and Shaoxing Metal Companies.³ For a detailed discussion of this ministerial error, as well as the Department's analysis of this error and other allegations raised, see Memorandum to James C. Doyle, Director, Office 9, through Catherine Bertrand, Program Manager, from Julia Hancock, Senior Case Analyst: Antidumping Duty Investigation of Steel Wire Garment Hangers from the People's Republic of China: Analysis of Ministerial Error Allegations, (September X, 2008) (“Ministerial Error Memo”).

³ The Shaoxing Metal Companies are: Shaoxing Gangyuan Metal Manufactured Co., Ltd. (“Gangyuan”), Shaoxing Andrew Metal Manufactured Co., Ltd., and Shaoxing Tongzhou Metal Manufactured Co., Ltd. (“Tongzhou”) and Company X.

Additionally, in the Final Determination, we determined that several companies qualified for a separate rate. See Final Determination, 73 FR 47590-47591. The separate rate was the simple average of the margins for Shanghai Wells and the Shaoxing Metal Companies, the mandatory respondents that received a calculated margin. Because the rates of Shanghai Wells and the Shaoxing Metal Companies have changed since the Final Determination, we have recalculated the separate rate. The separate rate is now 55.31 percent. See Memorandum to the File from Irene Gorelik, Analyst; Investigation of Steel Wire Garment Hangers from the People's Republic of China: Final Simple-Averaged Margin for Separate Rate Companies, dated concurrent with this Federal Register notice.

Moreover, as a result of the Department's correction of this ministerial error, we note that the PRC-Wide entity rate must also be revised. In the Final Determination, the Department stated that “as the single PRC-Wide rate, we have taken the simple average of: A) the weighted-average ⁴ of the calculated rates for the Shaoxing Metal Companies and Shanghai Wells, and B) a simple average of petition rates based on U.S. prices and normal values within the range of the U.S. prices and normal values calculated for the Shaoxing Metal Companies and Shanghai Wells.” See Final Determination, 73 FR at 47591. We have continued using this methodology but due to the correction of the ministerial error, the resulting single rate applicable to the PRC-Wide entity is 187.25 percent. This rate applies to all entries of the merchandise under investigation with the exception of those entries from Shanghai Wells, the Shaoxing Metal Companies, and the separate-rate recipients. See Memorandum to the File from Irene Gorelik, Senior Analyst; Investigation of Steel Wire Garment Hangers from the People's Republic of China: Corroboration Memorandum for the Amended Final Determination, dated concurrent with this Federal Register notice.

⁴ In the Final Determination, the Department inadvertently stated weighted-average rather than simple-average.

Therefore, in accordance with section 735(e) of the Act, we are amending the final determination of sales at LTFV in the antidumping duty investigation of steel wire garment hangers from the PRC. After correcting this ministerial error, the revised final weighted-average dumping margins are as follows:

Steel Wire Garment Hangers From the PRC—Amended Dumping Margins
Exporter & producer | Weighted-average deposit rate
Shanghai Wells Hanger Co., Ltd | 15.83%
Shaoxing Metal Companies:
Shaoxing Gangyuan Metal Manufactured Co., Ltd | 94.78
Shaoxing Andrew Metal Manufactured Co., Ltd |
Shaoxing Tongzhou Metal Manufactured Co., Ltd |
Company “X” |
Jiangyin Hongji Metal Products Co., Ltd | 55.31
Shaoxing Meideli Metal Hanger Co., Ltd | 55.31
Shaoxing Dingli Metal Clotheshorse Co., Ltd | 55.31
Shaoxing Liangbao Metal Manufactured Co. Ltd | 55.31
Shaoxing Zhongbao Metal Manufactured Co. Ltd | 55.31
Shangyu Baoxiang Metal Manufactured Co. Ltd | 55.31
Zhejiang Lucky Cloud Hanger Co., Ltd | 55.31
Pu Jiang County Command Metal Products Co., Ltd | 55.31
Shaoxing Shunji Metal Clotheshorse Co., Ltd | 55.31
Ningbo Dasheng Hanger Ind. Co., Ltd | 55.31
Jiaxing Boyi Medical Device Co., Ltd | 55.31
Yiwu Ao-Si Metal Products Co., Ltd | 55.31
Shaoxing Guochao Metallic Products Co., Ltd | 55.31
PRC-Wide Rate ⁵ | 187.25

Continuation of Suspension of Liquidation

In accordance with section 735(c)(1)(B) of the Act, we will instruct U.S. Customs and Border Protection (“CBP”) to continue to suspend liquidation on all entries of subject merchandise from the PRC. We will also instruct CBP to require cash deposits or the posting of a bond equal to the estimated amount by which the normal value exceeds the U.S. price as indicated in the chart above. These instructions suspending liquidation will remain in effect until further notice.

⁵ The PRC-Wide entity includes Tianjin Hongtong Metal Manufacture Co. Ltd.

This determination is issued and published in accordance with sections 735(d) and 777(i)(1) of the Act, and 19 CFR 351.224(e).

Dated: September 8, 2008.
David M. Spooner,
Assistant Secretary for Import Administration.

[FR Doc. E8-21468 Filed 9-12-08; 8:45 am]

BILLING CODE 3510-DS-P